DEPARTMENT OF DEFENSE

Department of the Army

Intent To Grant Field of Use Exclusive License to U.S. Government-Owned Patents

AGENCY: Department of the Army, DoD.

ACTION: Notice.

SUMMARY: In accordance with 35 U.S.C. 209(e), and 37 CFR 404.7 (a)(1)(i) and 404.7(b)(1)(i), announcement is made of the intent to grant a field of use exclusive, revocable license for the field of prevention and/or therapeutic treatment of vaccinia virus infections or other orthopoxvirus infections to the inventions claimed in U.S. Patent No. 6,451,309 entitled “Prophylactic and Therapeutic Monoclonal Antibodies,” issued September 17, 2002, and U.S. Patent No. 6,620,412 entitled “Prophylactic and Therapeutic Monoclonal Antibodies,” issued September 16, 2003, which is a continuation of U.S. Patent No. 6,451,309, and related foreign patents and patent applications (PCT/US2001/04520) to Biofactura, Inc., with its principal place of business at 9430 Key West Avenue, Suite 125, Rockville, MD 20850-6345.

ADDRESSES: Commander, U.S. Army Medical Research and Materiel Command, ATTN: Command Judge Advocate, MCMR-JA, 504 Scott Street, Fort Detrick, Frederick, MD 21702-5012.

FOR FURTHER INFORMATION CONTACT: For licensing issues, Dr. Paul Mele, Office of Research and Technology Applications (ORTA), (301) 619-6664. For patent issues, Ms. Elizabeth Arwine, Patent Attorney, (301) 619-7808, both at telefax (301) 619-5034.

SUPPLEMENTARY INFORMATION: Anyone wishing to object to the grant of this license can file written objections along with supporting evidence, if any, within 15 days from the date of this publication. Written objections are to be filed with the Command Judge Advocate (see ADDRESSES).

Brenda S. Bowen,
Army Federal Register Liaison Officer.

[FR Doc. 2010-22707 Filed 9-10-10; 8:45 am]

BILLING CODE 3710-08-P